ENVIRONMENTAL PROTECTION AGENCY

[FRL-8232-4]

Proposed Settlement Agreement, Clean Air Act Citizen Suit

AGENCY: Environmental Protection Agency (EPA).

ACTION: Notice of Proposed Settlement Agreement; Request for Public Comment.

SUMMARY: In accordance with section 113(g) of the Clean Air Act, as amended (“Act”), 42 U.S.C. 7413(g), notice is hereby given of a proposed settlement agreement, to address a lawsuit filed by Natural Resources Defense Council, Environmental Defense, Montana Environmental Information Center, American Lung Association of Metropolitan Chicago, Ohio Environmental Council, Valley Watch, Inc., and Sierra Club (collectively “Petitioners”) in the United States Court of Appeal for the District of Columbia Circuit: Natural Resources Defense Council v. EPA, No. 06-1059 (consolidated with Nos. 06-1062 and 06-1063) (DC Cir.). Petitioners requested judicial review of a December 13, 2005 letter sent by the Director of EPA's Office of Air Quality Planning and Standards in response to an inquiry from an environmental consulting firm concerning how to address Integrated Gasification Combined Cycle (IGCC) technology in preconstruction permit reviews for coal-fired electric generating facilities under the New Source Review program.

DATES: Written comments on the proposed settlement agreement must be received by November 20, 2006.

ADDRESSES: Submit your comments, identified by Docket ID number EPA-HQ-OGC-2006-0813, online at http://www.regulations.gov (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room 6146F, 1301 Constitution Ave., NW., Washington, DC, between 8:30 a.m. and 4:30 p.m. Monday through Friday, excluding legal holidays. Comments on a disk or CD-ROM should be formatted in Word or ASCII file, avoiding the use of special characters and any form of encryption, and may be mailed to the mailing address above.

As of September 22, 2006, the EPA Docket Center (EPA/DC) Public Reading Room will be temporarily inaccessible to the public until November 6, 2006. Public access to docket materials will still be provided by appointment.

FOR FURTHER INFORMATION CONTACT: Brian Doster, Air and Radiation Law Office (2344A), Office of General Counsel, U.S. Environmental Protection Agency, 1200 Pennsylvania Ave., NW., Washington, DC 20460; telephone: (202) 564-1932; fax number (202) 564-5603; e-mail address: doster.brian@epa.gov.

SUPPLEMENTARY INFORMATION:

I. Additional Information About the Proposed Settlement

On December 13, 2005, the Director of the EPA Office of Air Quality Planning and Standards responded by letter to an inquiry from an environmental consulting firm concerning the treatment of Integrated Gasification Combined Cycle (IGCC) technology in preconstruction permit reviews for coal-fired electric generating facilities under the New Source Review program. Under this program, construction and modification of major sources of air pollution are required to meet emissions limitations based on either Best Available Control Technology (BACT) or the Lowest Achievable Emissions Rate (LAER), depending on whether the area in which the source is located is meeting the National Ambient Air Quality Standards (NAAQS). 42 U.S.C. 7475(a)(4); 42 U.S.C. 7503(a)(1). In the letter, EPA expressed the view that the IGCC technology need not be evaluated in the BACT or LAER review for a supercritical pulverized coal power facility based on fundamental differences between the IGCC and supercritical pulverized coal technologies. Petitioners requested judicial review of the letter.

The proposed settlement agreement and related correspondence are available for review in the docket described above. For a period of thirty (30) days following the date of publication of this notice, the Agency will receive written comments relating to the proposed settlement agreement from persons who were not named as parties or intervenors to the litigation in question. EPA or the Department of Justice may withdraw or withhold consent to the proposed settlement agreement if the comments disclose facts or considerations that indicate that such consent is inappropriate, improper, inadequate, or inconsistent with the requirements of the Act. Unless EPA or the Department of Justice determines, based on any comment which may be submitted, that consent to the settlement agreement should be withdrawn, the terms of the agreement will be affirmed.

II. Additional Information About Commenting on the Proposed Settlement

A. How Can I Get a Copy of the Settlement?

The official public docket for this action (identified by Docket ID No. EPA-HQ-OGC-2006-0813) contains a copy of the settlement. An electronic version of the public docket is available through http://www.regulations.gov. You may use the http://www.regulations.gov to submit or view public comments, access the index listing of the contents of the official public docket, and to access those documents in the public docket that are available electronically. Once in the system, select “search,” then key in the appropriate docket identification number.

As of September 22, 2006, the EPA Docket Center (EPA/DC) Public Reading Room will be temporarily inaccessible to the public until November 6, 2006. Public access to docket materials will still be provided. The official public docket is available for public viewing by appointment only during this period. Appointments may be made by calling (202) 566-1744 or by e-mail to oei.docket@epa.gov. The telephone number for the OEI Docket is (202) 566-1752.

B. How and to Whom Do I Submit Comments?

Direct your comments to the official public docket for this action under Docket ID No. EPA-HQ-OGC-2006-0813. You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the http://www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through http://www.regulations.gov, your e-mail address is automatically captured and included as part of the comment that is placed in the official public docket, and made available in EPA's electronic public docket.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

Dated: October 12, 2006.
Richard B. Ossias,
Associate General Counsel.

[FR Doc. E6-17430 Filed 10-18-06; 8:45 am]

BILLING CODE 6560-50-P